DEPARTMENT OF TRANSPORTATION

Federal Aviation Administration

14 CFR Part 39

[Docket No. FAA-2005-20687; Directorate Identifier 2004-NM-171-AD; Amendment 39-14325; AD 2005-20-28]

RIN 2120-AA64

Airworthiness Directives; Airbus Model A319-100 Series Airplanes; Model A320-111 Airplanes; Model A320-200 Series Airplanes, and Model A321-100 and -200 Series Airplanes

AGENCY: Federal Aviation Administration (FAA), Department of Transportation (DOT).

ACTION: Final rule.

SUMMARY: The FAA is adopting a new airworthiness directive (AD) for certain Airbus airplane models, as specified above. This AD requires modifying the floor proximity emergency escape path marking system. This AD results from information that the existing system design for interconnection of the emergency power supply units of the floor proximity emergency escape path marking system does not provide adequate floor path lighting and marking for safe evacuation of the airplane in the event of an emergency. We are issuing this AD to prevent inadequate lighting and marking of the escape path, which could delay or impede the flightcrew and passengers when exiting the airplane during an emergency landing.

DATES: This AD becomes effective November 16, 2005.

The Director of the Federal Register approved the incorporation by reference of a certain publication listed in the AD as of November 16, 2005.

ADDRESSES: You may examine the AD docket on the Internet at http://dms.dot.gov or in person at the Docket Management Facility, U.S. Department of Transportation, 400 Seventh Street SW., Nassif Building, room PL-401, Washington, DC.

Contact Airbus, 1 Rond Point Maurice Bellonte, 31707 Blagnac Cedex, France, for service information identified in this AD.

FOR FURTHER INFORMATION CONTACT: Dan Rodina, Aerospace Engineer, International Branch, ANM-116, FAA, Transport Airplane Directorate, 1601 Lind Avenue, SW., Renton, Washington 98055-4056; telephone (425) 227-2125; fax (425) 227-1149.

SUPPLEMENTARY INFORMATION:

Examining the Docket

You may examine the airworthiness directive (AD) docket on the Internet at http://dms.dot.gov or in person at the Docket Management Facility office between 9 a.m. and 5 p.m., Monday through Friday, except Federal holidays. The Docket Management Facility office (telephone (800) 647-5227) is located on the plaza level of the Nassif Building at the street address stated in the ADDRESSES section.

Discussion

The FAA issued a notice of proposed rulemaking (NPRM) to amend 14 CFR part 39 to include an AD that would apply to certain Airbus Model A319, A320, and A321 series airplanes. That NPRM was published in the Federal Register on March 23, 2005 (70 FR 14597). That NPRM proposed to require modifying the floor proximity emergency escape path marking system (FPEEPMS).

Comments

We provided the public the opportunity to participate in the development of this AD. We have considered the comments received.

Request To Clarify Certain Sections in the Preamble

One commenter disagrees with the implication that Bruce Industries equipment is the root cause of the unsafe condition. The commenter states that the language in the Discussion section of the NPRM indicates that the root cause of the unsafe condition is the design of the Bruce power supply. The commenter adds that this is not the case, and notes that the problem is not with the design but with the method of installing that component on the airplane. The commenter states that it contacted Airbus regarding this problem, and Airbus responded by identifying the source of the problem as the incorrect installation of the Bruce power supply and the wiring on the airplane. Airbus and Bruce Industries have since developed a resolution. The commenter reiterates the Discussion section in the NPRM and asks that the final sentence of that section be changed, as follows: “The DGAC advises that the existing system design for interconnection of the emergency power supply units (EPSU) of the FPEEPMS installed on these airplanes does not provide adequate floor path lighting and marking for safe evacuation of the airplane in the event of an emergency.” The commenter adds that it is very sensitive to the company's reputation in the industry and feels that the existing language of the NPRM unfairly targets the company as providing an unsafe product.

The commenter also states that the corrective action language as described in the “Relevant Service Information” section is correct. The language the commenter is referring to is as follows “The modification includes removing the BRUCE and DIEHL EPSUs of the FPEEPMS; modifying the wiring; installing placards; and installing new, improved DIEHL EPSUs.” The commenter notes that if the problem were due solely to the design of the Bruce power supplies, the resolution would be to replace only those units.

We agree with the commenter's statements, but cannot make changes to the “Discussion” or “Relevant Service Information” sections in the NPRM because those sections are not restated in the final rule. However, for clarity's sake and for operators' reference, we have changed the Summary section and paragraph (d) of this AD to add, “the existing system design for interconnection of the EPSU of the FPEEPMS does not provide adequate floor path lighting and marking for safe evacuation of the airplane in the event of an emergency.”

Request To Extend Compliance Time

One commenter states that the NPRM allows only 17 months from the effective date of the AD to accomplish the modification. The commenter adds that trying to meet the 17-month deadline would require either extending C-check visits (accomplishing a heavy maintenance visit won't meet the deadline), or adding scheduled special route visits.

We infer that the commenter is asking that the compliance time for the modification be extended. We agree that the compliance time may be extended somewhat. We have reconsidered the urgency of the unsafe condition and the amount of work related to the required actions. We find that extending the compliance time from 17 months to 24 months will not adversely affect safety, and, for the majority of affected operators, will allow the required actions to be performed during regularly scheduled maintenance at a base where special equipment and trained maintenance personnel will be available if necessary. We have changed the compliance time for accomplishing the modification required by paragraph (f) of this AD accordingly.

Request To Change Applicability

One commenter refers to French airworthiness directive F-2004-121 R1, dated October 13, 2004 (referenced in the NPRM), and states that the applicability specified in the NPRM should be the same as the effectivity in the French airworthiness directive. The commenter adds that the French airworthiness directive does not affect aircraft fitted with DIEHL EPSUs having part numbers (P/Ns) 3214-51, -52, -54, or -55, with no BRUCE EPSU having P/N 100865. The commenter notes that the reason for this is that DIEHL equipment must be replaced if associated with a BRUCE EPSU having P/N 100865.

We agree with the commenter for the reasons provided. The applicability specified in this AD has been changed accordingly.

Request To Change Cost Estimate

One commenter requests that we revise the cost estimate for the modification in the NPRM. The commenter states that the referenced service bulletin shows an estimate of approximately 28 work hours per airplane, but the commenter believes this to be overly optimistic. The commenter adds that the work requires several seat units to be removed, multiple ceiling panels to be lowered, and certain power supplies to be replaced and then rewired. The commenter does not believe that even doubling the estimate in the service bulletin will be adequate. The commenter further states that the need to do the modification during special visits will be necessary, which will increase the cost to operators.

We acknowledge the commenter's concerns. We recognize that, in accomplishing the requirements of any AD, operators may incur “incidental” costs in addition to the “direct” costs that are reflected in the cost analysis presented in the AD preamble. However, the cost analysis in AD rulemaking actions typically does not include incidental costs.

Further, because ADs require specific actions to address specific unsafe conditions, they appear to impose costs that would not otherwise be borne by operators. However, because of the general obligation of operators to maintain and operate their airplanes in an airworthy condition, this appearance is deceptive. Attributing those costs solely to the issuance of this AD is unrealistic because, in the interest of maintaining and operating safe airplanes, prudent operators would accomplish the required actions even if they were not required to do so by the AD. In any case, we have determined that direct and incidental costs are still outweighed by the safety benefits of the AD. We have not changed the AD in this regard.

Explanation of Change to Applicability

We have changed the applicability of the NPRM to identify model designations as published in the most recent type certificate data sheet for the affected models.

Clarification of Alternative Method of Compliance (AMOC) Paragraph

We have changed this AD to clarify the appropriate procedure for notifying the principal inspector before using any approved AMOC on any airplane to which the AMOC applies.

Conclusion

We have carefully reviewed the available data, including the comments received, and determined that air safety and the public interest require adopting the AD with the changes described previously. These changes will neither increase the economic burden on any operator nor increase the scope of the AD.

Costs of Compliance

This AD would affect about 236 airplanes of U.S. registry. The modification will take about 28 work hours per airplane, at an average labor rate of $65 per work hour. Required parts will cost about $280 per airplane. Based on these figures, the estimated cost of the modification for U.S. operators is $495,600, or $2,100 per airplane.

Authority for This Rulemaking

Title 49 of the United States Code specifies the FAA's authority to issue rules on aviation safety. Subtitle I, section 106, describes the authority of the FAA Administrator. Subtitle VII, Aviation Programs, describes in more detail the scope of the Agency's authority.

We are issuing this rulemaking under the authority described in subtitle VII, part A, subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a regulatory evaluation of the estimated costs to comply with this AD and placed it in the AD docket. See the ADDRESSES section for a location to examine the regulatory evaluation.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by adding the following new airworthiness directive (AD):

2005-20-28 Airbus: Amendment 39-14325. Docket No. FAA-2005-20687; Directorate Identifier 2004-NM-171-AD.

Effective Date

(a) This AD becomes effective November 16, 2005.

Affected ADs

(b) None.

Applicability

(c) This AD applies to Airbus Model A319-111, -112, -113, -114, -115, -131, -132, and -133 airplanes; Model A320-111, -211, -212, -214, -231, -232, and -233 airplanes; and Model A321-111, -112, -131, -211 and -231 airplanes; certificated in any category; in which the floor proximity emergency escape path marking system (FPEEPMS) is equipped with BRUCE emergency power supply units (EPSUs) having BRUCE part number (P/N) 100865.

Unsafe Condition

(d) This AD was prompted by information that the existing system design for interconnection of the EPSUs of the FPEEPMS does not provide adequate floor path lighting and marking for safe evacuation of the airplane in the event of an emergency. We are issuing this AD to prevent inadequate lighting and marking of the escape path, which could delay or impede the flightcrew and passengers when exiting the airplane during an emergency landing.

Compliance

(e) You are responsible for having the actions required by this AD performed within the compliance times specified, unless the actions have already been done.

Modification

(f) Within 24 months after the effective date of this AD: Modify the FPEEPMS by doing all the actions specified in the Accomplishment Instructions of Airbus Service Bulletin A320-33-1041, dated December 11, 2003.

Alternative Methods of Compliance (AMOCs)

(g)(1) The Manager, International Branch, ANM-116, Transport Airplane Directorate, FAA, has the authority to approve AMOCs for this AD, if requested in accordance with the procedures found in 14 CFR 39.19.

(2) Before using any AMOC approved in accordance with 14 CFR 39.19 on any airplane to which the AMOC applies, notify the appropriate principal inspector in the FAA Flight Standards Certificate Holding District Office.

Related Information

(h) French airworthiness directive F-2004-121 R1, dated October 13, 2004, also addresses the subject of this AD.

Material Incorporated by Reference

(i) You must use Airbus Service Bulletin A320-33-1041, dated December 11, 2003, to perform the actions that are required by this AD, unless the AD specifies otherwise. The Director of the Federal Register approved the incorporation by reference of this document in accordance with 5 U.S.C. 552(a) and 1 CFR part 51. Contact Airbus, 1 Rond Point Maurice Bellonte, 31707 Blagnac Cedex, France, for a copy of this service information. You may review copies at the Docket Management Facility, U.S. Department of Transportation, 400 Seventh Street SW., room PL-401, Nassif Building, Washington, DC; on the Internet at http://dms.dot.gov; or at the National Archives and Records Administration (NARA). For information on the availability of this material at the NARA, call (202) 741-6030, or go to http://www.archives.gov/federal_register /code_of_federal_regulations/ibr _locations.html.

Issued in Renton, Washington, on September 28, 2005.
Kalene C. Yanamura,
Acting Manager, Transport Airplane Directorate, Aircraft Certification Service.

[FR Doc. 05-20074 Filed 10-11-05; 8:45 am]

BILLING CODE 4910-13-P